DEPARTMENT OF JUSTICE

Notice of Lodging of Consent Decree Pursuant to Comprehensive Environmental Response, Compensation, and Liability Act

In accordance with Departmental policy, 28 CFR § 50.7, notice is hereby given that, on November 20, 2001, a proposed CONSENT DECREE BETWEEN THE UNITED STATES OF AMERICA AND CITIZENS LEGAL ENVIRONMENTAL ACTION NETWORK, INC. AND PREMIUM STANDARD FARMS, INC. AND CONTINENTAL GRAIN COMPANY, INC. (the Decree) in CLEAN and United States v. PSF, Civil Action No. 97-6073-CV-SJ-6 (W.D. Mo.), and CLEAN v. Continental, Civil Action No. 98-6099-CV-W-6 (W.D. Mo.), was lodged with the United States District Court for the Western District of Missouri.

The Decree resolves claims for injunctive relief and civil penalties pursuant to the Clean Water Act, the Clean Air Act, and the reporting requirements of Section 103 of the Comprehensive Environmental Response, Compensation, and Liability Act and the Emergency Planning and Community Right to Know Act against Premium Standard Farms, Inc. and Continental Grain Company, Inc. arising out of their operation of concentrated animal feeding operations (CAFOs) with more than 1.25 million pigs in Missouri. Pursuant to the Decree, defendants will implement technological changes to reduce toxics in animal wastes and air emissions from barns, lagoons and land application of wastes; conduct air monitoring; and pay a $350,000 civil penalty (in addition to $650,000 already paid under a prior State settlement).

For thirty (30) days following this publication, the Department of Justice will receive comments relating to the proposed decree. Comments should be addressed to the Assistant Attorney General of the Environmental and Natural Resources Division, United States Department of Justice, Post Office Box 7611, Washington, DC 20044-7611, and should refer to CLEAN and United States v. PSF, Civil Action No. 97-6073-CV-SJ-6 (W.D. Mo.) and CLEAN v. Continental, Civil Action No. 98-6099-CV-W-6 (W.D. Mo.) DOJ nos. 90-5-1-1-06806 and 90-5-1-1-06806/1. Alternatively, because of potential mail delays associated with recent events, comments may be sent by facsimile to (202) 514-4180, with attention to the EES-Region VII Group.

The proposed decree may be examined at the offices of the United States Attorney, Western District of Missouri, Charles Evans Whittaker Courthouse, 400 East 9th Street—5th Floor, Kansas City, Missouri 64106, and the United States Environmental Protection Agency—Region VII, 901 North 5th Street, Kansas City, Kansas 66101. The decree may also be obtained by mail from the United States Department of Justice Consent Decree Library, Post Office Box 7611, Washington, D.C. 20044-7611. In requesting a copy, please enclose a check in the amount of $56.00 (25 cents per page reproduction cost).

Robert E. Maher, Jr.,
Assistant Chief, Environmental Enforcement Section, Environment and Natural Resources Division.

[FR Doc. 01-31788 Filed 12-26-01; 8:45 am]

BILLING CODE 4410-15-M